DEPARTMENT OF THE INTERIOR

Bureau of Land Management

[LLOR930000.L63500000.DQ0000.LXSS081H0000.16XL1116AF; HAG 16-0122]

Notice of Availability of the Northwestern and Coastal Oregon Record of Decision/Resource Management Plan and the Southwestern Oregon Record of Decision/Resource Management Plan for Western Oregon

AGENCY: Bureau of Land Management, Interior.

ACTION: Notice.

SUMMARY: In accordance with the National Environmental Policy Act of 1969, as amended, and the Federal Land Policy and Management Act of 1976, as amended, the Bureau of Land Management (BLM) has signed the Northwestern and Coastal Oregon Record of Decision (ROD)/Resource Management Plan (RMP) and Southwestern Oregon ROD/RMP, and by this notice is announcing their availability. The Deputy Director of Operations for the Bureau of Land Management signed the RODs.

DATES: The BLM signed the Northwestern and Coastal Oregon ROD/RMP and Southwestern Oregon ROD/RMP on August 5, 2016. These RODs/RMPs were effective immediately upon signing.

ADDRESSES: Copies or notification of the electronic availability of the Northwestern and Coastal Oregon ROD/RMP and the Southwestern Oregon ROD/RMP have been sent to affected Federal, State, tribal, and local government agencies and to other stakeholders including interested parties that previously requested a copy. Copies of the RODs/RMPs are available for public inspection at the Coos Bay, Eugene, Medford, Roseburg, and Salem District Offices and the Lakeview District's Klamath Falls Field Office. Interested persons may also access the RODs/RMPs on the Internet at: http://www.blm.gov/or/plans/rmpswesternoregon/.

FOR FURTHER INFORMATION CONTACT: Mr. Mark Brown, Western Oregon RMPs Project Manager, telephone (503) 808-6233; address 1220 SW 3rd Avenue, (P.O. Box 2965, zip code 97208), Portland, OR, 97204; or email blm_or_rmps_westernoregon@blm.gov. Persons who use a telecommunications device for the deaf (TDD) may call the Federal Relay Service at 1-800-877-8339 to contact the above individual during normal business hours. The Service is available 24 hours a day, seven days a week, to leave a message or question with the above individual. You will receive a reply during normal business hours.

SUPPLEMENTARY INFORMATION: The Northwestern and Coastal Oregon ROD/RMP and Southwestern Oregon ROD/RMP were developed through a collaborative planning process to design management for western Oregon BLM lands that would: produce a sustained yield of timber products, contribute to the conservation and recovery of threatened and endangered species, provide for clean water, restore fire-adapted ecosystems, provide for recreation opportunities, and coordinate management of lands surrounding the Coquille Forest with the Coquille Tribe.

The RMPs include land use allocations that reserve lands for the protection of resource values (Congressionally Reserved, District-Designated Reserve, Late-Successional Reserve, Riparian Reserve) and include land use allocations that prioritize timber harvest and multiple use management (Harvest Land Base, Eastside Management Area). The Northwestern and Coastal Oregon ROD/RMP revises the following BLM RMPs completed in 1995: Coos Bay, Eugene, Roseburg, and Salem. The Southwestern Oregon ROD/RMP revises the following BLM RMPs completed in 1995: Klamath Falls, Medford, and Roseburg. These six RMPs incorporated the land use allocations and standards and guidelines from the Northwest Forest Plan.

The decision areas for the Northwestern and Coastal Oregon ROD/RMP and Southwestern Oregon ROD/RMP encompass approximately 2.5 million acres of BLM-administered lands and 69,000 acres of split-estate lands in western Oregon.

A Notice of Availability (NOA) for the Proposed RMP/Final Environmental Impact Statement (EIS) for the RMPs for Western Oregon was published in the Federal Register on April 15, 2016, which initiated a 30-day protest period (81 FR 22263). The BLM initiated the 60-day Governor's Consistency Review period on March 31, 2016. The BLM received 46 timely and valid protest submissions on the Proposed RMP/Final EIS. All protests have been resolved and/or dismissed. For a full description of the issues raised during the protest period and how they were addressed, please refer to the Director's Protest Resolution Report for the Proposed RMP/Final EIS, which is available at the following Web site: http://www.blm.gov/wo/st/en/prog/planning/planning_overview/protest_resolution/protestreports.html.

The BLM Oregon Acting State Director received a Governor's Consistency Review letter from the State of Oregon Governor on June 14, 2016. This letter included requests for minor clarifications, which the BLM accepted. The Acting State Director issued a response to the Governor on June 23, 2016.

The Proposed RMP was selected in the RODs as the Approved RMP, with some minor modifications and clarifications based on protests received on the Proposed RMP/Final EIS, review from the Oregon State Governor's Office, and Endangered Species Act (ESA) consultation with the U.S. Fish and Wildlife Service and National Marine Fisheries Service. No substantive changes to the Proposed RMP resulted from protests, the Governor's review, or ESA consultation.

Copies of the Northwestern and Coastal Oregon ROD/RMP are available upon request and are available for public inspection at:

• BLM Coos Bay District Office; 1300 Airport Lane, North Bend, OR 97459

• BLM Eugene Office; 3106 Pierce Parkway, Springfield, OR 97477

• BLM Roseburg District Office; 777 NW Garden Valley Boulevard, Roseburg, OR 97471

• BLM Salem Office; 1717 Fabry Road SE., Salem, OR 97306

• BLM Salem District—Tillamook Field Office; 4610 Third Street, Tillamook, OR 97141

• BLM Oregon/Washington State Office; 1220 SW 3rd Avenue, Portland, OR 97204

• http://www.blm.gov/or/plans/rmpswesternoregon/.

Copies of the Southwestern Oregon ROD/RMP are available upon request and are available for public inspection at:

• BLM Lakeview District—Klamath Falls Field Office; 2795 Anderson Avenue, Building #25, Klamath Falls, OR 97603

• BLM Medford District Office; 3040 Biddle Road, Medford, OR 97504

• BLM Medford District—Grants Pass Field Office; 2164 NE Spalding Avenue, Grants Pass, OR 97526

• BLM Roseburg District Office; 777 NW Garden Valley Boulevard, Roseburg, OR 97471

• BLM Oregon/Washington State Office; 1220 SW 3rd Avenue, Portland, OR 97204

• http://www.blm.gov/or/plans/rmpswesternoregon/

Authority: 40 CFR 1506.6, 40 CFR 1506.10, 43 CFR 1610.2

Jenna Whitlock,
Acting BLM Deputy Director.

[FR Doc. 2017-00064 Filed 1-5-17; 8:45 am]

BILLING CODE 4310-35-P